DEPARTMENT OF ENERGY

Federal Energy Regulatory Commission

Combined Notice of Filings # 1

October 17, 2007.

Take notice that the Commission received the following electric corporate filings:

Docket Numbers: EC08-6-000.

Applicants: Telocaset Wind Power Partners, LLC; High Prairie Wind Farm II, LLC; Old Trail Wind Farm, LLC; Horizon Wind Ventures I, LLC; 2007 Vento II, LLC; General Electric Capital Corporation; Wachovia Investment Holdings, LLC.

Description: Telocaset Wind Power Partners, LLC et al. submits a joint application for indirect disposition of jurisdictional facilities.

Filed Date: 10/12/2007.

Accession Number: 20071016-0118.

Comment Date: 5 p.m. Eastern Time on Tuesday, November 13, 2007.

Docket Numbers: EC08-7-000.

Applicants: NorthWestern Corporation.

Description: NorthWestern Corp submits an application requesting authorization to acquire Owner Participant interest from SGE (New York) Associates.

Filed Date: 10/12/2007.

Accession Number: 20071016-0120.

Comment Date: 5 p.m. Eastern Time on Friday, November 2, 2007.

Take notice that the Commission received the following exempt wholesale generator filings:

Docket Numbers: EG08-6-000.

Applicants: Santa Rosa Energy Center, LLC.

Description: Notice of Self-Certification of Exempt Wholesale Generator Status of Santa Rosa Energy Center, LLC.

Filed Date: 10/16/2007.

Accession Number: 20071016-5004.

Comment Date: 5 p.m. Eastern Time on Tuesday, November 6, 2007.

Docket Numbers: EG08-7-000.

Applicants: Long Beach Peakers LLC.

Description: Exempt Wholesale Generator Notice of Self-Certification of Long Beach Peakers LLC.

Filed Date: 10/16/2007.

Accession Number: 20071016-5054.

Comment Date: 5 p.m. Eastern Time on Tuesday, November 6, 2007.

Take notice that the Commission received the following electric rate filings:

Docket Numbers: ER07-921-002.

Applicants: ISO New England Inc.

Description: ISO New England Inc submits an amendment to the 7/23/07 compliance filing.

Filed Date: 10/15/2007.

Accession Number: 20071017-0107.

Comment Date: 5 p.m. Eastern Time on Monday, November 5, 2007.

Docket Numbers: ER08-49-000.

Applicants: Michigan Electric Transmission Co., LLC.

Description: Michigan Electric Transmission Co, LLC submits revisions to distribution-transmission interconnection agreement with Consumers Energy Co.

Filed Date: 10/12/2007.

Accession Number: 20071015-0296.

Comment Date: 5 p.m. Eastern Time on Friday, November 2, 2007.

Docket Numbers: ER08-50-000.

Applicants: E. ON U.S. LLC.

Description: E. ON. U.S., LLC on behalf of Kentucky Utilities Co submits a letter agreement with Big River Electric Corp.

Filed Date: 10/15/2007.

Accession Number: 20071017-0108.

Comment Date: 5 p.m. Eastern Time on Monday, November 5, 2007.

Docket Numbers: ER08-51-000.

Applicants: New York State Electric & Gas Corp.

Description: New York State Electric & Gas Corp submits a supplement to Rate Schedule FERC 117—Facilities Agreement with the Delaware County Electric Cooperative.

Filed Date: 10/15/2007.

Accession Number: 20071017-0109.

Comment Date: 5 p.m. Eastern Time on Monday, November 5, 2007.

Docket Numbers: ER08-52-000.

Applicants: New York State Electric & Gas Corp.

Description: New York State Electric & Gas Corp submits a supplement to Rate Schedule FERC 72—Facilities Agreement with the Municipal Board of the Village of Bath.

Filed Date: 10/15/2007.

Accession Number: 20071017-0110.

Comment Date: 5 p.m. Eastern Time on Monday, November 5, 2007.

Docket Numbers: ER08-53-000.

Applicants: Termoelectrica U.S., LLC.

Description: Report of Termoelectrica US, LLC re wholesale sales of electricity in-markets operated by the California Independent System Operator Corp.

Filed Date: 10/09/2007.

Accession Number: 20071017-0114.

Comment Date: 5:00 p.m. Eastern Time on Tuesday, October 30, 2007.

Docket Numbers: ER08-54-000.

Applicants: ISO New England Inc.

Description: ISO New England et al. jointly submits proposed revisions to Sections I and II of the ISO Tariff to comply with FERC's Order 890 preventing undue discrimination or preference in transmission service.

Filed Date: 10/11/2007.

Accession Number: 20071017-0118.

Comment Date: 5:00 p.m. Eastern Time on Thursday, November 1, 2007.

Docket Numbers: ER08-55-000.

Applicants: Midwest Independent Transmission System Operator, Inc. and PJM Interconnection, LLC.

Description: Midwest Independent Transmission System Operator, Inc and PJM Interconnection, LLC submits proposed revisions to the Congestion Management Process of their Joint Operating Agreement.

Filed Date: 10/15/2007.

Accession Number: 20071017-0162.

Comment Date: 5 p.m. Eastern Time on Monday, November 5, 2007.

Docket Numbers: ER08-56-000; ER08-66-000.

Applicants: Avista Corporation; Northwestern Corporation.

Description: Avisata Corp & NorthWestern Corp submit two non-confirming long-term service agreements with Northwestern Corp-Montana Transmission Function.

Filed Date: 10/16/2007.

Accession Number: 20071017-0111.

Comment Date: 5 p.m. Eastern Time on Tuesday, November 6, 2007.

Docket Numbers: ER08-57-000.

Applicants: AB Energy NE, Pty. Ltd.

Description: AB Energy NE, Pty Ltd submits a notice of cancellation of its FERC Electric Tariff, Original Volume 1.

Filed Date: 10/15/2007.

Accession Number: 20071017-0052.

Comment Date: 5 p.m. Eastern Time on Monday, November 5, 2007.

Docket Numbers: ER08-58-000.

Applicants: Wabash Valley Power Association, Inc.

Description: Wabash Valley Power Association, Inc. submits a supplement to Rate Schedule Filings.

Filed Date: 10/16/2007.

Accession Number: 20071017-0113.

Comment Date: 5 p.m. Eastern Time on Tuesday, November 6, 2007.

Docket Numbers: ER08-59-000

Applicants: AB Energy NY, Pty. Ltd.

Description: AB Energy NY, Pty Ltd. submits a notice of cancellation of its FERC Electric Tariff, Original Volume 1.

Filed Date: 10/15/2007.

Accession Number: 20071017-0053.

Comment Date: 5 p.m. Eastern Time on Monday, November 5, 2007.

Docket Numbers: ER08-60-000.

Applicants: Southwest Power Pool, Inc.

Description: Southwest Power Pool, Inc submits a Network Integration Transmission Service Agreement and Network Operating Agreement.

Filed Date: 10/16/2007.

Accession Number: 20071017-0112.

Comment Date: 5 p.m. Eastern Time on Tuesday, November 6, 2007.

Docket Numbers: ER08-61-000.

Applicants: ISO New England Inc.

Description: ISO New England Inc. submits an emergency request for changes to Market Rule 1.

Filed Date: 10/16/2007.

Accession Number: 20071016-0268.

Comment Date: 5 p.m. Eastern Time on Thursday, October 25, 2007.

Take notice that the Commission received the following electric securities filings:

Docket Numbers: ES07-67-001.

Applicants: National Grid USA.

Description: Amendment to and Notice of Partial Withdrawal of Application for Authorization to Issue Securities Under Section 204 of the Federal Power Act, and Motion for Waiver of 15-Day Waiting Period Under Commission Rule 216 of National Grid USA.

Filed Date: 10/15/2007.

Accession Number: 20071015-5140.

Comment Date: 5 p.m. Eastern Time on Monday, November 5, 2007.

Take notice that the Commission received the following open access transmission tariff filings:

Docket Numbers: OA07-90-001.

Applicants: MidAmerican Energy Company.

Description: Mid American Energy's substitute tariff sheet to reflect the correct methodology for calculation of transmission reserve margin in its Open Access Transmission Tariff—Attachment C filed September 11, 2007.

Filed Date: 10/16/2007.

Accession Number: 20071016-5040.

Comment Date: 5 p.m. Eastern Time on Tuesday, November 6, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-20902 Filed 10-23-07; 8:45 am]

BILLING CODE 6717-01-P